DEPARTMENT OF TRANSPORTATION

Federal Motor Carrier Safety Administration

Sunshine Act Meetings; Unified Carrier Registration Plan Board of Directors

AGENCY: Federal Motor Carrier Safety Administration (FMCSA), DOT.

Time and Date: June 11, 2007, 1 p.m. to 5 p.m., Eastern Daylight Time, and June 12, 2007, 8 a.m. to 12 noon, Eastern Daylight Time.

Place: This meeting will take place at the Hilton Indianapolis, located at 120 West Market Street, Indianapolis, IN 46204.

Status: Open to the public.

Matters to be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Dated: May 22, 2007.
William A. Quade,
Acting Associate Administrator for Enforcement and Program Delivery.

[FR Doc. 07-2644 Filed 5-23-07; 1:26 pm]

BILLING CODE 4910-EX-P